DEPARTMENT OF HOMELAND SECURITY

Coast Guard

[Docket No. USCG-2012-1049]

Interim Guidance for Revised Implementation of the International Convention for the Prevention of Pollution From Ships (MARPOL), Annex V

AGENCY: Coast Guard, DHS.

ACTION: Notice of availability.

SUMMARY: The Coast Guard announces the availability of CG-CVC Policy Letter 13-01, “Interim Guidance for Revised MARPOL Annex V Implementation.” On July 15, 2011, the International Maritime Organization's (IMO) Marine Environment Protection Committee (MEPC) formally adopted Resolution MEPC.201(62), which amends the International Convention for the Prevention of Pollution from Ships (MARPOL) Annex V, by establishing a general prohibition on discharges of garbage into the sea. The amendments in Resolution MEPC.201(62) entered into force on January 1, 2013. CG-CVC Policy Letter 13-01 provides interim guidance to assist U.S. flagged and foreign flagged oceangoing ships regarding compliance with the amendments in Resolution MEPC.201(62) until the Coast Guard updates the applicable regulations in 33 CFR part 151.

DATES: The effective date for the amendments in Resolution MEPC.201(62) was January 1, 2013. CG-CVC Policy Letter 13-01 is effective as of February 26, 2013.

ADDRESSES: This notice and the documents referenced within are available in the docket and can be viewed by going to www.regulations.gov and using “USCG-2012-1049” as your search term. CG-CVC Policy Letter 13-01 can also be viewed on the Coast Guard's Web site at http://homeport.uscg.mil by referring to the left side menu and following the links to “Domestic Vessels,” “Domestic Vessel Policy,” and “Office of Commercial Vessel Compliance (CG-CVC) Policy Letters.”

FOR FURTHER INFORMATION CONTACT: If you have questions on this notice or CG-CVC Policy Letter 13-01, call or email LT John Peterson, U.S. Coast Guard, Office of Commercial Vessel Compliance (CG-CVC-1), telephone (202) 372-1226, or email CG-CVC-1@uscg.mil. If you have questions on viewing material in the docket, call Docket Operations, telephone (202) 366-9826.

SUPPLEMENTARY INFORMATION:

Background and Purpose

The United States implements MARPOL Annex V through the Act to Prevent Pollution from Ships (33 U.S.C. 1901, et. seq.). On July 15, 2011, the IMO's MEPC formally adopted Resolution MEPC.201(62), which amends MARPOL Annex V by establishing a general prohibition on discharges of garbage into the sea. Under prescribed conditions, exceptions are provided for food wastes, cargo residues, cleaning agents or additives contained in cargo hold, deck, and external surface wash waters, and animal carcasses. The amendments in Resolution MEPC.201(62) entered into force on January 1, 2013.

The Coast Guard intends to revise its regulations in 33 CFR part 151 to conform with the amendments in Resolution MEPC.201(62). These conforming regulatory provisions were not finalized prior to January 1, 2013. The lack of updated regulations does not exempt ships from meeting the requirements of the amended MARPOL Annex V. CG-CVC Policy Letter 13-01 provides interim guidance to assist U.S. flagged and foreign flagged oceangoing ships regarding compliance with the amendments in Resolution MEPC.201(62) until the Coast Guard updates the applicable regulations.

As of January 1, 2013, all U.S. flagged ships and fixed or floating platforms are expected to meet the requirements of the amended MARPOL Annex V. This is particularly important for U.S. flagged ships (including recreational and uninspected ships) on international voyages that want to avoid Port State control actions. For U.S. ships operating strictly on domestic routes, Coast Guard Marine Inspectors should verify compliance with amended MARPOL Annex V during normally scheduled inspections, but inspectors are encouraged to use an educational outreach and awareness approach. Additionally, current enforcement options remain in place for willful and egregious violators or repeat offenders.

Additionally, all foreign flagged ships operating in the navigable waters of the U.S. or the Exclusive Economic Zone ¹ of the U.S. are expected to meet the requirements of amended MARPOL Annex V.² Coast Guard Port State Control Officers should verify a foreign flag ships' compliance with MARPOL Annex V during normally scheduled Port State Control examinations.

¹ With respect to the United States (including the Commonwealth of Puerto Rico, the Commonwealth of the Northern Mariana Islands, Guam, American Samoa, the United States Virgin Islands, and any other territory or possession over which the United States exercises sovereignty), exclusive economic zone means the zone seaward of and adjacent to the territorial sea, including the contiguous zone, and extending 200 nautical miles from the territorial sea baseline (except where otherwise limited by treaty or other agreement recognized by the United States) in which the United States has the sovereign rights and jurisdiction and all nations have the high seas freedoms mentioned in Presidential Proclamation 5030 of March 10, 1983 (33 CFR 2.30(a)).

² See 33 U.S.C. 1902(a)(3).

The guidance in CG-CVC Policy Letter 13-01 is neither a substitute for applicable legal requirements, nor a rule. It is not intended nor does it impose legally-binding requirements on any party. It represents the Coast Guard's current policy on this topic and may assist industry, mariners, the general public, and the Coast Guard, as well as other Federal and state regulators, in applying statutory and regulatory requirements. An alternative approach may be used for complying with these requirements if the approach satisfies the requirements of the applicable statutes and regulations. If you want to discuss an alternative approach, you may contact the Coast Guard Office of Commercial Vessel Compliance (CG-CVC-1) using the methods provided in the FOR FURTHER INFORMATION CONTACT section above.

Authority: This notice is issued under authority of 5 U.S.C. 552(a) and 33 U.S.C. 1901 et seq.

Dated: February 19, 2013.
P.F. Thomas,
Captain, U.S. Coast Guard, Director, Inspections and Compliance.

[FR Doc. 2013-04319 Filed 2-25-13; 8:45 am]

BILLING CODE 9110-04-P